RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of information collection: Continuing Disability Report; OMB 3220-0187.

Under Section 2 of the Railroad Retirement Act, an annuity is not payable or is reduced for any month in which the annuitant works for a railroad or earns more than prescribed dollar amounts from either non-railroad employment or self-employment. Certain types of work may indicate an annuitant's recovery from disability. The provisions relating to the reduction or non-payment of annuities by reasons of work and an annuitant's recovery from disability for work are prescribed in 20 CFR 220.17-220.20. The RRB conducts continuing disability reviews (CDR) to determine whether annuitants continue to meet the disability requirements of the law. Provisions relating to when and how often the RRB conducts CDR's are prescribed in 20 CFR 220.186.

Form G-254, Continuing Disability Report, is used by the RRB to develop information for CDR determinations, including determinations prompted by a report of work, return to railroad service, allegations of medical improvement, or routine disability call-up. The RRB provides significant non-burden impacting editorial and formatting changes. The editorial changes are proposed largely to provide better instructions and to clarify information currently requested.

Form G-254a, Continuing Disability Update Report, is used to help identify disability annuitants whose work activity and/or recent medical history warrants a more extensive review and thus completion of Form G-254. The RRB proposes non-burden impacting changes to Form G-254a to delete items no longer necessary and to add the Paperwork Reduction Act/Privacy notice that had previously been part of an accompanying transmittal letter.

One response is requested of each respondent to Form G-254 and G-254a. Completion is required to retain a benefit.

Estimate of Annual Respondent Burden

The estimated annual respondent burden is as follows:

Form | Annual responses | Time (min) | Burden (hrs)
G-254 | 1,500 | 5-35 | 623
G-254a | 1,500 | 5 | 125

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 05-15308 Filed 8-2-05; 8:45 am]

BILLING CODE 7905-01-P